DEPARTMENT OF THE INTERIOR

Bureau of Indian Affairs

[201A2100DD/AAKC001030/A0A501010.999900253G]

Indian Gaming; Approval of Tribal-State Class III Gaming Compact Amendment in the State of Oregon

AGENCY: Bureau of Indian Affairs, Interior.

ACTION: Notice.

SUMMARY: The Confederated Tribes of the Umatilla Indian Reservation and the State of Oregon amended their compact governing certain forms of class III gaming; this notice announces Secretarial approval of the Amendment to the Amended Tribal-State Compact for Regulation of Class III Gaming between the Confederated Tribes of the Umatilla Indian Reservation and the State of Oregon-Amendment II.

DATES: The compact amendment takes effect on September 9, 2020.

FOR FURTHER INFORMATION CONTACT: Ms. Paula L. Hart, Director, Office of Indian Gaming, Office of the Deputy Assistant Secretary—Policy and Economic Development, Washington, DC 20240, (202) 219-4066, paula.hart@bia.gov.

SUPPLEMENTARY INFORMATION: Under section 11 of the Indian Gaming Regulatory Act (IGRA) Public Law 100-497, 25 U.S.C. 2701 et seq., the Secretary of the Interior shall publish in the Federal Register notice of approved Tribal-State compacts for the purpose of engaging in class III gaming activities on Indian lands. As required by IGRA and 25 CFR 293.4, all compacts and amendments are subject to review and approval by the Secretary. The compact amendment authorizes the Tribe to waive the required payment to the Community Benefit Fund for the year 2020.

Tara Sweeney,
Assistant Secretary—Indian Affairs.

[FR Doc. 2020-19928 Filed 9-8-20; 8:45 am]

BILLING CODE 4337-15-P